DEPARTMENT OF HEALTH AND HUMAN SERVICES

Administration for Children and Families

[Program Announcement No. ACF/ACYF-PA-HS-2001-02B]

Fiscal Year 2001 Discretionary Announcement for Select Service Areas of Early Head Start; Availability of Funds and Request for Applications

AGENCY: Administration on Children, Youth and Families, ACF, DHHS.

ACTION: Correction.

SUMMARY: This document contains a correction to the Notice that was published in the Federal Register on Wednesday, September 13, 2000.

On page 55256, in the State of Alaska, in the Funding for the following counties column, delete “$797,487” and replace with “$914,488”.

On page 55256, in the State of Arizona, in the County of Maricopa, in the Funding for the following counties column, delete “$895,843” and replace with “$956,190”.

On page 55256, in the State of California, add “Alameda” to the County column, and next to that add “$1,254,931” in the Funding for the following counties column, and in the Current service area column add “San Leandro, San Lorenzo, Castro Valley, Hayward, Union City, Fremont, Newark, Livermore, Pleasanton, and Dublin”.

On page 55256, in the State of California, in the County of El Dorado, in the Funding for the following counties column, delete “884,818” and replace with “$947,640”.

On page 55256, in the State of California, in the County of Fresno, in the Funding to the following counties column, delete “752,322” and replace with “798,213”.

On page 55256, in the State of California, in the County of Nevada, in the Funding to the following counties column, delete “$1,077,655” and replace with “$1,146,292”.

On page 55256, in the State of California, in the County of San Mateo, in the Funding to the following counties column, delete “$641,039” and replace with “$1,072,738” and in the Current service area column, delete “Half Moon Bay” with replace with “Entire County”.

On page 55256, in the State of Colorado, in the County of Denver, next to the Funding amount of $1,380,779, in the Current service area column, after Montbello delete “and City Park” and replace with “City Park, Globeville, Skyland and North Capitol Hill”.

On page 55257, in the State of Hawaii, in the County of Oahu, in the Funding for the following counties column, delete “$635,745” and replace with “$678,925” and in the County of Oahu, in the Funding for the following counties column, delete “$453,443” and replace with “$481,104”.

On page 55257, in the State of Idaho, add “Nez Perce” to the County Column, and add “Nez Perce Reservation” in the Current service area column.

On page 55259, in the State of New York, in the County of Saratoga, in the Funding for the following counties column, delete “$998,746” and replace with “$927,124”.

On page 55259, in the State of North Dakota, delete “Carson” from the County column, delete “$797,487” from the Funding for the following counties column, and delete “Boundaries of Standing Rock Reservation” from the Current service area column.

On page 55259, in the State of North Dakota, in the County of Sioux, add “$797,487” to the Funding for the following counties column and delete “Boundaries of Standing Rock Reservation” from the Current service area column and replace with “Standing Rock Sioux Reservation”.

On page 55259, in the State of South Dakota, in the County of Pennington, in the Funding for the following counties column, delete “$795,140” and replace with “$1,155,140”.

On page 55259, in the State of South Dakota, in the County column, after Meade, add the following County: “Lawrence” and in the Current service area column add “Entire County”.

On page 55259, in the State of South Dakota, in the County column after Lawrence, add the following County: “Fall River” and in the Current service area column add “Entire County”.

On page 55259, in the State of South Dakota, in the County Column after “Fall River”, add the following County: “Custer” and in the Current service area column add “Entire County”.

On page 55259, in the State of South Dakota, in the County Column after “Custer”, add the following County: “Jackson” and in the Current service area column add “Entire County”.

On page 55259, in the State of South Dakota, in the County Column after “Jackson”, add the following County: “Haakon” and in the Current service area column add “Entire County”.

On page 55259, in the State of South Dakota, add “Corson” to the County column, and in the Current service area column add “Standing Rock Sioux Reservation” and add the following note in the Current service area column: “Note: for funding level see North Dakota, Sioux County”.

On page 55260, in the State of Virginia, in the County of Buchanan, in the Funding for the following counties column, delete “$425,640” and replace with “$657,534”.

FOR FURTHER INFORMATION CONTACT: The ACYF Operations Center at 1-800-351-2293 or send an email to chs@lcgnet.com. You can also contact Judith Jerald, Early Head Start, Head Start Bureau at (202) 205-8074.

Dated: October 24, 2000.
Patricia Montoya,
Commission, Administration on Children, Youth and Families.

[FR Doc. 00-27970 Filed 10-31-00; 8:45 am]

BILLING CODE 4184-01-M